ENVIRONMENTAL PROTECTION AGENCY

[EPA-HQ-OAR-2011-0742; FRL—9931-69-OEI]

Information Collection Request Submitted to OMB for Review and Approval; Comment Request; Aircraft Engines—Supplemental Information Related to Exhaust Emissions

AGENCY: Environmental Protection Agency (EPA).

ACTION: Notice.

SUMMARY: The Environmental Protection Agency has submitted an information collection request (ICR), “Aircraft Engines—Supplemental Information Related to Exhaust Emissions” (EPA ICR No. 2427.03, OMB Control No. 2060-0680) to the Office of Management and Budget (OMB) for review and approval in accordance with the Paperwork Reduction Act (44 U.S.C. 3501 et seq.). This is a proposed extension of the ICR. Public comments were previously requested via the Federal Register during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 31, 2015.

ADDRESSES: Submit your comments, referencing the above listed Docket ID Number, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Alan Stout, Office of Air and Radiation, U.S. Environmental Protection Agency; telephone number: 734-214-4805; email address: stout.alan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Clean Air Act section 231 (42 U.S.C. 7571) authorizes EPA to adopt emission standards for aircraft engines. The Clean Air Act additionally provides broad authority for EPA to collect information related to the regulations we adopt for aircraft and other emission sources (42 U.S.C. 7414(a)(1)). EPA is accordingly adopted emission standards for aircraft gas turbine engines and added a requirement for manufacturers to submit information related to compliance with the emission standards. EPA will use the data to verify compliance with emission standards and to better understand the characteristics of aircraft engines that are subject to emission standards.

Respondent's obligation to respond: Mandatory.

Estimated number of respondents: 10 (total).

Frequency of response: Annual.

Total estimated burden: 60 hours (per year). Burden is defined at 5 CFR 1320.03(b).

Total estimated cost: No annualized capital or operation & maintenance costs.

Changes in the estimates: There is no change in the total estimated respondent burden compared with the ICR currently approved by OMB.

Courtney Kerwin,
Director, Collection Strategies Division.

[FR Doc. 2015-18716 Filed 7-30-15; 8:45 am]

BILLING CODE 6560-50-P